DEPARTMENT OF ENERGY

Federal Energy Regulatory Commission

Sunshine Act Meeting

April 4, 2001.

The following notice of meeting is Published Pursuant to Section 3(A) of the Government in the Sunshine Act (Pub. L. No. 94-409), 5 U.S.C 552B:

AGENCY HOLDING MEETING: Federal Energy Regulatory Commission.

DATE AND TIME: April 12, 2001, 12:00 p.m.

PLACE: Room 2C, 888 First Street, N.E., Washington, D.C. 20426.

STATUS: Open.

MATTERS TO BE CONSIDERED: Agenda.

Note— Items listed on the agenda may be deleted without further notice.

CONTACT PERSON FOR MORE INFORMATION: David P. Boergers, Secretary, Telephone (202) 208-0400. For a recording listing items stricken from or added to the meeting, call (202) 208-1627.

This is a list of matters to be considered by the Commission. It does not include a listing of all papers relevant to the items on the agenda; however, all public documents may be examined in the reference and information center.

764th—Meeting April 12, 2001, Regular Meeting, 12:00 p.m.

Consent Agenda—Markets, Tariffs and Rates—Electric

CAE-1.

DOCKET# ER01-1233, 000, FLORIDA POWER & LIGHT COMPANY

CAE-2.

DOCKET# ER01-1223, 000, ALLEGHENY POWER SERVICE CORPORATION, ON BEHALF OF MONONGAHELA POWER COMPANY, THE POTOMAC EDISON COMPANY AND WEST PENN POWER COMPANY

OTHER#S ER01-1232, 000, PJM INTERCONNECTION, L.L.C. AND ALLEGHENY POWER SERVICE CORPORATION

CAE-3.

DOCKET# ER01-1231, 000, SOUTHWEST POWER POOL, INC.

CAE-4.

DOCKET# ER01-1313, 000, NEW ENGLAND POWER POOL

CAE-5.

OMITTED

CAE-6.

DOCKET# ER01-1301, 000, MICHIGAN ELECTRIC TRANSMISSION COMPANY

CAE-7.

OMITTED

CAE-8.

DOCKET# ER01-1308, 000, NEW ENGLAND POWER POOL

CAE-9.

DOCKET# ER01-1441, 000, FLORIDA POWER CORPORATION

OTHER#S OA96-73, 004, FLORIDA POWER CORPORATION

CAE-10.

DOCKET# ER00-1997, 000, PPL ELECTRIC UTILITIES CORPORATION

OTHER#S ER97-3189, 030, PPL ELECTRIC UTILITIES CORPORATION; ER98-1569, 004, PPL ELECTRIC UTILITIES CORPORATION; ER00-1014, 001, PPL ELECTRIC UTILITIES CORPORATION

CAE-11.

OMITTED

CAE-12.

DOCKET# EL00-95, 015, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE

OTHER#S EL00-95, 016, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE; EL00-98, 014, INVESTIGATIONS OF PRACTICES OF THE CALIFORNIA INDEPENDENT SYSTEM OPERATOR AND THE CALIFORNIA POWER EXCHANGE; EL00-98, 015, INVESTIGATIONS OF PRACTICES OF THE CALIFORNIA INDEPENDENT SYSTEM OPERATOR AND THE CALIFORNIA POWER EXCHANGE

CAE-13.

DOCKET# EC90-10, 007, NORTHEAST UTILITIES SERVICE COMPANY

OTHER#s ER93-294, 000, NORTHEAST UTILITIES SERVICE COMPANY; ER95-1686, 000, NORTHEAST UTILITIES SERVICE COMPANY; ER96-496, 000, NORTHEAST UTILITIES SERVICE COMPANY; OA97-237, 000, NEW ENGLAND POWER POOL; ER97-1079, 000, NEW ENGLAND POWER POOL

CAE-14.

DOCKET# EL99-44, 002, ARIZONA PUBLIC SERVICE COMPANY V. IDAHO POWER COMPANY

CAE-15.

DOCKET# ER01-463, 002, ARIZONA PUBLIC SERVICE COMPANY

CAE-16.

OMITTED

CAE-17.

DOCKET# EF00-2011, 000, UNITED STATES DEPARTMENT OF ENERGY—BONNEVILLE POWER ADMINISTRATION

CAE-18.

DOCKET# ER01-256, 003, AMERICAN ELECTRIC POWER SERVICE CORPORATION

CAE-19.

DOCKET# OA97-237, 003, NEW ENGLAND POWER POOL

OTHER#S OA97-237, 006, NEW ENGLAND POWER POOL; OA97-238, 001, MASSACHUSETTS MUNICIPAL WHOLESALE ELECTRIC COMPANY; OA97-608, 002, NEW ENGLAND POWER POOL; OA97-608, 004, NEW ENGLAND POWER POOL; ER97-1079, 003, NEW ENGLAND POWER POOL; ER97-1079, 005, NEW ENGLAND POWER POOL; ER97-1080, 001, MASSACHUSETTS MUNICIPAL WHOLESALE ELECTRIC COMPANY; ER97-3574, 002, NEW ENGLAND POWER POOL; ER97-3574, 004, NEW ENGLAND POWER POOL; ER97-4421, 002, NEW ENGLAND POWER POOL; ER97-4421, 004, NEW ENGLAND POWER POOL; ER98-499, 001, NEW ENGLAND POWER POOL; ER98-3568, 001, NEW ENGLAND POWER POOL; ER99-387, 001, NEW ENGLAND POWER POOL

CAE-20.

DOCKET# ER98-917, 001, SOUTHWEST RESERVE SHARING GROUP

CAE-21.

DOCKET# EL94-5, 003, SAN DIEGO GAS & ELECTRIC COMPANY V. PUBLIC SERVICE COMPANY OF NEW MEXICO

OTHER#S EL96-40, 003, SAN DIEGO GAS & ELECTRIC COMPANY V. PUBLIC SERVICE COMPANY OF NEW MEXICO; EL97-54, 003, SAN DIEGO GAS & ELECTRIC COMPANY V. PUBLIC SERVICE COMPANY OF NEW MEXICO

CAE-22.

DOCKET# EC99-18, 001 BOSTON EDISON COMPANY

OTHER#S EL99-22, 001 ENTERGY NUCLEAR GENERATION COMPANY; ER99-1023, 001, BOSTON EDISON COMPANY

CAE-23.

DOCKET# ER92-331, 007, CONSUMERS ENERGY COMPANY

OTHER#S ER92-332, 007, CONSUMERS ENERGY COMPANY

CAE-24.

DOCKET# ER99-4513, 001, IEC OPERATING COMPANIES

CAE-25.

OMITTED

CAE-26.

DOCKET# ER00-2208, 001, CALIFORNIA INDEPENDENT SYSTEM OPERATOR CORPORATION

CAE-27.

OMITTED

CAE-28.

DOCKET# ECO1-49, 002, PG&E NATIONAL ENERGY GROUP, LLC

OTHER#S ECO1-41, 002, PG&E NATIONAL ENERGY GROUP, LLC

CAE-29.

DOCKET# ER01-870, 002, ALLIANT ENERGY CORPORATE SERVICES

OTHER#S ER01-870, 001, ALLIANT ENERGY CORPORATE SERVICES

CAE-30.

DOCKET# EL01-38, 000, UGI UTILITIES, INC., METROPOLITAN EDISON COMPANY, PENNSYLVANIA ELECTRIC COMPANY, PEPCO ENERGY COMPANY AND PPL ELECTRIC UTILITIES CORPORATION V. PJM INTERCONNECTION, L.L.C. AND UTILITY.COM, INC.

OTHER#S ER01-1240, 000, PJM INTERCONNECTION, L.L.C.

CAE-31.

DOCKET# OA01-3, 000, UTILICORP UNITED, INC.

CAE-32.

OMITTED

CAE-33.

DOCKET# NJ00-1, 000, CHUGACH ELECTRIC ASSOCIATION, INC.

CAE-34.

DOCKET# EL98-8, 000, FLORIDA POWER & LIGHT COMPANY

CAE-35.

DOCKET# EL01-44, 000, CALEDONIA GENERATING, LLC

CAE-36.

DOCKET# EL00-43, 000, UTILICORP UNITED INC. V. CITY OF HARRISONVILLE, MISSOURI

OTHER#S EL00-68, 000, MISSOURI JOINT MUNICIPAL ELECTRIC UTILITY COMMISSION AND THE CITY OF HARRISONVILLE, MISSOURI V. UTILICORP UNITED INC.

CAE-37.

OMITTED

CAE-38.

DOCKET# ER01-889, 001, CALIFORNIA INDEPENDENT SYSTEM OPERATOR CORPORATION

OTHER#S EL00-95, 014, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE; EL00-98, 013, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE; EL00-104, 003, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE; EL00-107, 004, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE; EL01-1, 004, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE; ER01-902, 001, CALIFORNIA POWER EXCHANGE CORPORATION

CAE-39.

DOCKET# EL98-66, 001, EAST TEXAS ELECTRIC COOPERATIVE, INC. V. CENTRAL AND SOUTH WEST SERVICES, INC., CENTRAL POWER AND LIGHT COMPANY, WEST TEXAS UTILITIES COMPANY, PUBLIC SERVICE COMPANY OF OKLAHOMA AND SOUTHWESTERN ELECTRIC POWER COMPANY

CAE-40. DOCKET# EL01-36, 000, CORAL POWER, L.L.C., ENRON POWER MARKETING, INC., ARIZONA PUBLIC SERVICE COMPANY, CARGILL-ALLIANT, LLC, SAN DIEGO GAS & ELECTRIC COMPANY, AVISTA ENERGY, INC., SEMPRA ENERGY TRADING CORPORATION, PACIFICORP AND CONSTELLATION POWER SOURCE V. CALIFORNIA POWER EXCHANGE CORPORATION

OTHER#S EL01-29, 000, PACIFIC GAS AND ELECTRIC COMPANY; EL01-33, 000, SOUTHERN CALIFORNIA EDISON COMPANY; EL01-37, 000, SALT RIVER AGRICULTURAL IMPROVEMENT AND POWER DISTRICT AND SACRAMENTO MUNICIPAL UTILITY DISTRICT V. CALIFORNIA POWER EXCHANGE CORPORATION; EL01-43, 000, PUBLIC SERVICE COMPANY OF NEW MEXICO

CAE-41.

DOCKET# ER01-1286, 000, PJM INTERCONNECTION, L.L.C.

CAE-42.

DOCKET# EL00-71, 000, CITY OF DETROIT V. THE DETROIT EDISON COMPANY

CAE-43.

DOCKET# ER98-1581, 001, ATLANTIC CITY ELECTRIC COMPANY, BALTIMORE GAS AND ELECTRIC COMPANY, DELMARVA POWER & LIGHT COMPANY, JERSEY CENTRAL POWER & LIGHT COMPANY, METROPOLITAN EDISON COMPANY, PENNSYLVANIA ELECTRIC COMPANY, PP&L, INC., POTOMAC ELECTRIC POWER COMPANY AND PUBLIC SERVICE ELECTRIC AND GAS COMPANY

OTHER#S ER97-3189, 020, PJM INTERCONNECTION, L.L.C.

CAE-44.

DOCKET# TX00-1, 000, UNITED STATES DEPARTMENT OF ENERGY—WESTERN AREA POWER ADMINISTRATION, COLORADO RIVER STORAGE PROJECT MANAGEMENT CENTER

OTHER#S ER00-896, 000, PUBLIC SERVICE COMPANY OF NEW MEXICO

CAE-45.

DOCKET# EL01-34, 000, SOUTHERN CALIFORNIA EDISON COMPANY

CAE-46.

DOCKET# ER01-889, 002, CALIFORNIA INDEPENDENT SYSTEM OPERATOR CORPORATION

OTHER# ER01-902, 002, CALIFORNIA INDEPENDENT SYSTEM OPERATOR CORPORATION; EL00-95, 021, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE; EL00-98, 020, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE; EL00-104, 004, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE; EL00-107, 005, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE; EL01-1, 005, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE

Consent Agenda—Markets, Tariffs and Rates—Gas

CAG-1.

DOCKET# RP01-205, 001, SOUTHERN NATURAL GAS COMPANY

CAG-2.

DOCKET# PR01-3, 000, MAGNOLIA PIPELINE CORPORATION

CAG-3.

DOCKET# RP98-52, 040, WILLIAMS GAS PIPELINES CENTRAL, INC.

CAG-4.

OMITTED

CAG-5.

OMITTED

CAG-6.

DOCKET# RP01-22, 003, EAST TENNESSEE NATURAL GAS COMPANY

CAG-7.

DOCKET# RP01-17, 003, MARITIMES & NORTHEAST PIPELINE, L.L.C.

CAG-8.

DOCKET# RP01-23, 003, ALGONQUIN GAS TRANSMISSION COMPANY

CAG-9.

DOCKET# RP99-477, 003, NORTH AMERICAN ENERGY CONSERVATION, INC. V. CNG TRANSMISSION CORPORATION

CAG-10.

DOCKET# RP00-388, 001, KOCH GATEWAY PIPELINE COMPANY

CAG-11.

DOCKET# RP99-351, 001, FLORIDA GAS TRANSMISSION COMPANY

CAG-12.

DOCKET# RP00-223, 003, NORTHERN NATURAL GAS COMPANY

CAG-13.

DOCKET# RP95-112, 028, TENNESSEE GAS PIPELINE COMPANY

CAG-14.

DOCKET# RP96-129, 000, TRUNKLINE GAS COMPANY

OTHER#S RP91-54, 000, TRUNKLINE GAS COMPANY

CAG-15.

DOCKET# MG01-21, 000, NATIONAL FUEL GAS SUPPLY CORPORATION

CAG-16.

DOCKET# MG00-8, 001, EGAN HUB PARTNERS, L. P.

OTHER#S MG01-20, 000, EGAN HUB PARTNERS, L. P.

CAG-17.

OMITTED

Consent Agenda—Energy Projects—Hydro

CAH-1.

DOCKET# P-5, 059, PPL MONTANA, LLC AND CONFEDERATED SALISH AND KOOTENAI TRIBES OF THE FLATHEAD NATION

CAH-2.

DOCKET# P-11856, 001, CITY OF LOCKPORT, NEW YORK

CAH-3.

DOCKET# P-2722, 009, PACIFICORP

CAH-4.

DOCKET# P-2932, 004, S.D. WARREN COMPANY

CAH-5.

OMITTED

CAH-6.

OMITTED

Consent Agenda—Energy Projects—Certificates

CAC-1.

DOCKET# CP00-404, 000, TEXAS EASTERN TRANSMISSION CORPORATION

CAC-2.

OMITTED

CAC-3.

DOCKET# CP01-4, 000, MARITIMES & NORTHEAST PIPELINE, L.L.C.

OTHER#S CP01-5, 000, ALGONQUIN GAS TRANSMISSION COMPANY

CAC-4.

DOCKET# CP01-68, 000, INDIANA GAS COMPANY, INC.

CAC-5.

DOCKET# RP99-471, 002, WILLIAMS FIELD SERVICES GROUP, INC. V. EL PASO NATURAL GAS COMPANY

OTHER#S CP00-458, 000, EL PASO NATURAL GAS COMPANY

CAC-6.

OMITTED

CAC-7.

DOCKET# CP95-218, 004, TEXAS EASTERN TRANSMISSION CORPORATION

CAC-8.

DOCKET# CP01-106, 000, KERN RIVER GAS TRANSMISSION COMPANY

OTHER# CP01-31, 000, KERN RIVER GAS TRANSMISSION COMPANY

Energy Projects—Hydro Agenda

H-1.

RESERVED

Energy Projects—Certificates Agenda

C-1.

RESERVED

Markets, Tariffs and Rates—Electric Agenda

E-1.

RESERVED

Markets, Tariffs and Rates—Gas Agenda

G-1.

RESERVED

David P. Boergers,
Secretary.

[FR Doc. 01-8853 Filed 4-5-01; 4:25 pm]

BILLING CODE 6717-01-P